NATIONAL ARCHIVES AND RECORDS ADMINISTRATION

Nixon Presidential Historical Materials; Opening of Materials

AGENCY: National Archives and Records Administration.

ACTION: Notice of opening of materials.

SUMMARY: This notice announces the opening of additional files from the Nixon Presidential historical materials. Notice is hereby given that, in accordance with section 104 of Title I of the Presidential Recordings and Materials Preservation Act (PRMPA, 44 U.S.C. 2111 note) and 1275.42(b) of the PRMPA Regulations implementing the Act (36 CFR Part 1275), the agency has identified, inventoried, and prepared for public access integral file segments among the Nixon Presidential historical materials.

DATES: The National Archives and Records Administration (NARA) intends to make these materials described in this notice available to the public beginning November 14, 2003. In accordance with 36 CFR 1275.44, any person who believes it necessary to file a claim of legal right or privilege concerning access to these materials should notify the Archivist of the United States in writing of the claimed right, privilege, or defense before October 30, 2003.

ADDRESSES: The materials will be made available to the public at the National Archives at College Park research room, located at 8601 Adelphi Road, College Park, Maryland beginning at 8:45. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-837-3290.

SUPPLEMENTARY INFORMATION: The integral file segments of textual materials to be opened on November 14, 2003, consist of 34 cubic feet. The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

1. Subject Category: Volume: 30 cubic feet

Federal Government (FG)

FG 107 District of Columbia Redevelopment Land Agency

FG 108 Eleanor Roosevelt Memorial Foundation

FG 110 Export Administration Review Board

FG 111 Export Expansion Advisory Committee

FG 112 Export-Import Bank of the United States

FG 113 Farm Credit Administration

FG 114 Father [Jacques] Marquette Tercentenary Commission

FG 171 National Commission on Product Safety

FG 172 National Commission on Reform of Federal Criminal Laws

FG 205 President's Council on Physical Fitness and Sports

FG 206 President's Council on Recreation and Natural Beauty

FG 207 President's Council on Youth Opportunity

FG 208 President's Foreign Intelligence Advisory Board

FG 346 President's Advisory Committee on Environmental Merit Award Program

FG 347 National Center for Housing Management

FG 348 National Advisory Council on Drug Abuse Prevention

FG 349 Advisory Panel on Heart Disease

FG 350 Interagency Classification Review Committee

FG 351 National Commission on the Financing of Postsecondary Education

FG 352 National Commission on International Radio Broadcasting

FG 353 National Advisory Council on Equality of Educational Opportunity.

FG 354 Commission on the Organization of Government for the Conduct of Foreign Policy

FG 355 Cabinet Committee to Combat Terrorism

FG 356 Old West Regional Commission

FG 357 Pacific Northwest Regional Commission

FG 358 Commission on the Review of the National Policy toward Gambling

FG 359 Student Loan Marketing Association

FG 360 National Study Commission on Water Pollution

FG 361 Inter-American Foundation

FG 362 National Commission for Industrial Peace

FG 363 Consumer Product Safety Commission

FG 364 Pennsylvania Avenue Development Corporation

FG 365 Marine Mammal Commission

FG 366 National Advisory Council on Indian Education

FG 367 Ad Hoc Advisory Group on Commonwealth Status (Puerto Rico)

FG 368 President's Export Council

FG 369 President's Interagency Committee on Export Expansion

FG 370 American Revolution Bicentennial Administration

FG 371 National Commissions for the Review of Federal and State Laws Relating to Wiretapping and Electronic Surveillance

FG 372 Defense Manpower Commission

FG 373 National Commission for the Observance of World Population Year

FG 374 United States Railway Association

FG 375 Federal Council on the Aging

FG 376 National Commission on Manpower Policy

FG 378 President's Committee on Food

FG 379 President's Committee on East-West Trade Policy

2. One file group from the Staff Member and Office Files, listed below will also be made available to the public. This consists of materials that were transferred to the Central Files but were not incorporated into the Subject Files.

File Group: William Rhatican; Volume: 1 Cubic Foot.

3. White House Central Files, Name Files: Volume: 2 Cubic Feet.

Three files are from the White House Central Files, Name Files. The Name Files were used for routine materials filed alphabetically by the name of the correspondent; copies of documents in the Name Files are usually filed by subject in the Subject Files. The Name Files relating to the following three individuals will be made available with this opening.

Hebert, Mabel L.

Moore, Peter

Stern, Albert

4. White House Motion Picture Film:

In addition, this opening consists of seventy two rolls of motion picture film. The film was located among previously released textual materials. The motion picture film primarily chronicles the activities of the President and the White House staff.

5. Previously restricted materials Volume: 1 cubic foot.

A number of documents which were previously withheld from public access have been re-reviewed for release and or declassified under the provisions of Executive Order 12958, or in accordance with 36 CFR 1275.56 (Public Access Regulations).

Public access to some of the items in the file segments listed in this notice will be restricted as outlined in 36 CFR 1275.50 or 1275.52 (Public Access Regulations).

Dated: September 23, 2003.
John W. Carlin,
Archivist of the United States.

[FR Doc. 03-24623 Filed 9-29-03; 8:45 am]

BILLING CODE 7515-01-P